DEPARTMENT OF ENERGY

Federal Energy Regulatory Commission

Combined Notice of Filings

Take notice that the Commission has received the following Natural Gas Pipeline Rate and Refund Report filings:

Filings Instituting Proceedings

Docket Numbers: CP25-27-000.

Applicants: Greylock Pipeline, LLC, Oak Midstream, LLC.

Description: Greylock Pipeline, LLC et al. submit Abbreviated Application for Abandonment of the Limited Jurisdiction Certificate granted on 11/29/2012 et al.

Filed Date: 12/4/24.

Accession Number: 20241204-5238.

Comment Date: 5 p.m. ET 12/26/24.

Docket Numbers: PR25-22-000.

Applicants: Public Service Company of Colorado.

Description: 284.123(g) Rate Filing: Statement of Rates_11-05-2024 to be effective 12/31/9998.

Filed Date: 12/5/24.

Accession Number: 20241205-5095.

Comment Date: 5 p.m. ET 12/26/24.

284.123(g) Protest: 5 p.m. ET 2/3/25.

Docket Numbers: RP25-270-000.

Applicants: Millennium Pipeline Company, LLC.

Description: Compliance filing: Penalty Revenue Crediting Report 2024 to be effective N/A.

Filed Date: 12/5/24.

Accession Number: 20241205-5141.

Comment Date: 5 p.m. ET 12/17/24.

Docket Numbers: RP25-271-000.

Applicants: Gulf Shore Energy Partners, LP.

Description: 4(d) Rate Filing: Gulf Shore Negotiated Rate Filing to be effective 12/5/2024.

Filed Date: 12/5/24.

Accession Number: 20241205-5184.

Comment Date: 5 p.m. ET 12/17/24.

Docket Numbers: RP25-272-000.

Applicants: MarkWest Pioneer, L.L.C.

Description: 4(d) Rate Filing: Quarterly Fuel Adjustment Filing to be effective 1/1/2025.

Filed Date: 12/6/24.

Accession Number: 20241206-5033.

Comment Date: 5 p.m. ET 12/18/24.

Docket Numbers: RP25-273-000.

Applicants: Transcontinental Gas Pipe Line Company, LLC.

Description: 4(d) Rate Filing: Rate Schedule GSS LSS Tracker Filing Effective 12/1/24 to be effective 12/1/2024.

Filed Date: 12/6/24.

Accession Number: 20241206-5036.

Comment Date: 5 p.m. ET 12/18/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-239-001.

Applicants: Mojave Pipeline Company, L.L.C.

Description: Tariff Amendment: Amendment to Annual FL&U Filing to be effective 1/1/2025.

Filed Date: 12/6/24.

Accession Number: 20241206-5002.

Comment Date: 5 p.m. ET 12/13/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 6, 2024.
Carlos D. Clay,
Acting Deputy Secretary.

[FR Doc. 2024-29280 Filed 12-11-24; 8:45 am]

BILLING CODE 6717-01-P